DEPARTMENT OF TRANSPORTATION

Federal Aviation Administration

Agency Information Collection Activities: Requests for Comments; Clearance of Renewed Approval of Information Collection: National Flight Data Center Web Portal

AGENCY: Federal Aviation Administration (FAA), DOT.

ACTION: Notice and request for comments.

SUMMARY: In accordance with the Paperwork Reduction Act of 1995, FAA invites public comments about our intention to request the Office of Management and Budget (OMB) approval to renew a previously approved information collection. National Flight Data Center (NFDC) Web Portal forms are used to collect aeronautical information, detailing the physical description and operational status of all components of the National Airspace System (NAS).

DATES: Written comments should be submitted by September 20, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Barbara Hall by email at: Barbara.L.Hall@faa.gov. Phone: (817) 222-5448.

SUPPLEMENTARY INFORMATION:

OMB Control Number: 2120-0754.

Title: National Flight Data Center Web Portal.

Form Numbers: FAA Form 7900-1, 7900-2, 7900-3, 7900-4, 7900-7.

Type of Review: Renewal of an information collection.

Background: The Federal Register Notice with a 60-day comment period soliciting comments on the following collection of information was published on April 5, 2017 (82 FR 16658). There were no comments. The National Flight Data Center (NFDC) is the authoritative government source for collecting, validating, storing, maintaining, and disseminating aeronautical data concerning the United States and its territories to support real-time aviation activities. The information collected ensures the safe and efficient navigation of the national airspace. The information collected is maintained in the National Airspace System Resources (NASR) database which serves as the official repository for NAS data and is provided to government, military, and private producers of aeronautical charts, publications, and flight management systems. The FAA is no longer collecting the information that was previously collected using Form 7900-5 or 7900-6.

Respondents: Approximately 5,173 representatives of U.S. public airports, U.S. privately-owned instrument landing systems, and non-Federal weather systems.

Frequency: Information is collected on occasion.

Estimated Average Burden per Response: 40 minutes.

Estimated Total Annual Burden: 2,107 hours.

Issued in Washington, DC, on August 15, 2017.
Ronda L. Thompson,
FAA Information Collection Clearance Officer. Performance, Policy & Records Management Branch, ASP-110.

[FR Doc. 2017-17644 Filed 8-18-17; 8:45 am]

BILLING CODE 4910-13-P